AGENCY FOR INTERNATIONAL DEVELOPMENT

Board for International Food and Agricultural Development; Notice of Meeting

Pursuant to the Federal Advisory Committee Act, notice is hereby given of the public meeting of the Board for International Food and Agricultural Development (BIFAD). The meeting will be held from 8:30 a.m. to 12:30 p.m. on March 15, 2013 at the University of Missouri Reynolds Journalism Institute, S. 9th Street, Columbia, MO 65201. The central theme of this meeting will center on “Globalization of agriculture and food research at land-grant universities: BIFAD public meeting at University of Missouri.”

Dr. Brady Deaton, BIFAD Chair and Chancellor of the University of Missouri at Columbia, will preside over the meeting.

The public meeting will begin promptly at 8:00 a.m. with opening remarks by BIFAD Chair Brady Deaton. The Board will address both old and new business during this time and hear updates from USAID, including reports on outreach visits by three BIFAD members. USAID will provide updates on the Higher Education Solutions Network and the Bureau for Food Security Feed the Future Food Security Innovation Center. This will be followed by a panel on global research priorities related to Sustainable Intensification and Integrated Pest Management as related to refinement of current USAID/BFS research focus areas and programmatic choices. A second panel will focus on agricultural research at U.S. universities in the context of global challenges. Time will then be allowed for public comment. Following this period, the Chair will adjourn the meeting.

Those wishing to attend the meeting or obtain additional information about BIFAD should contact Susan Owens, Executive Director and Designated Federal Officer for BIFAD. Interested persons may write to her in care of the U.S. Agency for International Development, Ronald Reagan Building, Bureau for Food Security, 1300 Pennsylvania Avenue NW., Room 2.10-214, Washington, DC 20523-2110 or telephone her at (202) 712-0218.

Susan Owens,
USAID Designated Federal Officer for BIFAD, Bureau for Food Security, U.S. Agency for International Development.

[FR Doc. 2013-04746 Filed 2-28-13; 8:45 am]

BILLING CODE P